DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Board of Visitors for the Western Hemisphere Institute for Security Cooperation (“the Board”).

FOR FURTHER INFORMATION CONTACT: Jim Freeman, Advisory Committee Management Officer for the Department of Defense, 703-692-5952.

SUPPLEMENTARY INFORMATION: The Board's charter is being renewed in accordance with the Federal Advisory Committee Act (FACA) of 1972 (5 U.S.C., Appendix, as amended) and 41 CFR 102-3.50(d). The Board's charter and contact information for the Board's Designated Federal Officer (DFO) can be found at http://www.facadatabase.gov/.

The Board provides the Secretary of Defense and the Deputy Secretary of Defense, through the Secretary of the Army, with independent advice and recommendations on matters pertaining to the operations and management of the Western Hemisphere Institute for Security Cooperation (“the Institute”).

The Board will be composed of 14 members, 6 of whom are designated by the Secretary of Defense including, to the extent practicable, persons from academia, religious institutions, and human rights communities. The Secretary of Defense will also affirm the appointments, designated in statute, of the senior military officer responsible for training and doctrine in the U.S. Army (or designee) and the Commanders of the Combatant Commands with geographic responsibility for the Western Hemisphere (U.S. Northern Command and U.S. Southern Command) (or the designees of those officers). The Board will also be composed of:

a. Two Members of the Senate (the Chair and Ranking Member of the Armed Services Committee or a designee of either of them);

b. Two Members of the House of Representatives (the Chair and Ranking Member of the Armed Services Committee or a designee of either of them); and

c. One person designated by the Secretary of State (10 U.S.C. 2166(e)(1)).

Members of the Board who are not full-time or permanent part-time Federal officers or employees will be appointed as experts or consultants pursuant to 5 U.S.C. 3109 to serve as special government employee (SGE) members. Board members who are full-time or permanent part-time Federal officers or employees will be appointed pursuant to 41 CFR 101-3.130(a) to serve as RGE members.

All members of the Board are appointed to provide advice on behalf of the Government on the basis of their best judgment without representing any particular point of view and in a manner that is free from conflict of interest. Except for reimbursement of official Board-related travel and per diem, Board members serve without compensation.

The DoD, as necessary and consistent with the Board's mission and DoD policies and procedures, may establish subcommittees, task forces, or working groups to support the Board, and all subcommittees must operate under the provisions of FACA and the Government in the Sunshine Act. Subcommittees will not work independently of the Board and must report all recommendations and advice solely to the Board for full deliberation and discussion. Subcommittees, task forces, or working groups have no authority to make decisions and recommendations, verbally or in writing, on behalf of the Board. No subcommittee or any of its members can update or report, verbally or in writing, directly to the DoD or any Federal officers or employees.

The Board has two permanent subcommittees, whose members will be composed of individuals with professional experience in academia, religious institutions, and human rights communities. Each subcommittee will be composed of no more than eight members.

a. Subcommittee on Education: Provides independent advice and recommendations for the Board's consideration on the Institute's curriculum and the current challenges faced by our international partners' government, military, and law enforcement agencies, to determine if new topics should be considered for inclusion; and also makes recommendations on adjustments to the curriculum or courses that are no longer applicable.

b. Subcommittee on Outreach: Provides independent advice and recommendations for the Board's consideration on developing an outreach plan of action to strengthen support for the Institute among influential officials from our international partners to increase student and instructor attendance and encourage burden sharing; strengthen support for the Institute from key U.S. military, civilian, governmental and interagency personnel to sustain funding levels and expand the Institute's role; and develop an outreach plan to identify new partner nations that may be interested in sending students, instructors, guest lectures, or liaison officers to the Institute. The Board's DFO, pursuant to DoD policy, must be a full-time or permanent part-time DoD employee, and must be in attendance for the duration of each and every Board/subcommittee meeting. The public or interested organizations may submit written statements to the Board membership about the Board's mission and functions. Such statements may be submitted at any time or in response to the stated agenda of planned Board. All written statements must be submitted to the Board's DFO who will ensure the written statements are provided to the membership for their consideration.

Dated: May 27, 2016.
Aaron Siegel,
Alternate OSD Federal Register Liaison Officer, Department of Defense.

[FR Doc. 2016-13086 Filed 6-2-16; 8:45 am]

BILLING CODE 5001-06-P